ENVIRONMENTAL PROTECTION AGENCY

[FRL-9741-3]

National and Governmental Advisory Committees to the U.S. Representative to the Commission for Environmental Cooperation

AGENCY: Environmental Protection Agency (EPA).

ACTION: Notice of meeting.

SUMMARY: Under the Federal Advisory Committee Act, Public Law 92-463, EPA gives notice of a meeting of the National Advisory Committee (NAC) and Governmental Advisory Committee (GAC) to the U.S. Representative to the North American Commission for Environmental Cooperation (CEC). The National and Governmental Advisory Committees advise the EPA Administrator in her capacity as the U.S. Representative to the CEC Council. The Committees are authorized under Articles 17 and 18 of the North American Agreement on Environmental Cooperation (NAAEC), North American Free Trade Agreement Implementation Act, P.L. 103-182, and as directed by Executive Order 12915, entitled “Federal Implementation of the North American Agreement on Environmental Cooperation.” The NAC is composed of 13 members representing academia, environmental non-governmental organizations, and private industry. The GAC consists of 13 members representing state, local, and Tribal governments. The Committees are responsible for providing advice to the U.S. Representative on a wide range of strategic, scientific, technological, regulatory, and economic issues related to implementation and further elaboration of the NAAEC.

The purpose of the meeting is to provide advice on issues related to the new CEC Communication Strategy and the role of the committee's in furthering the goals of the strategy. The committees will also review the CEC's 2013 Draft Operational Plan and learn about Tribal issues in North America. The meeting will also include a public comment session. A copy of the agenda will be posted at http://www.epa.gov/ofacmo/nacgac-page.htm.

DATES: The National and Governmental Advisory Committees will hold an open meeting on Thursday, October 25, 2012, from 8:30 a.m. to 5:00 p.m., and Friday, October 26, from 8:30 a.m. until 2:00 p.m.

ADDRESSES: The meeting will be held at the U.S. EPA, Conference Room B-305, located in the Ariel Rios North Building, 1201 Constitution Ave. NW., Washington, DC 20004. Telephone: 202-564-2294. The meeting is open to the public, with limited seating on a first-come, first-served basis. If you plan to attend, please register with Ms. Stephanie McCoy, by no later than October 16th by calling 202-564-2294 or via email at mccoy.stephanie@epa.gov. Please provide your name, organization, address and telephone number.

FOR FURTHER INFORMATION CONTACT: Oscar Carrillo, Designated Federal Officer, carrillo.oscar@epa.gov, 202-564-0347, U.S. EPA, Office of Federal Advisory Committee Management and Outreach (1601-M), 1200 Pennsylvania Avenue NW., Washington, DC 20460.

SUPPLEMENTARY INFORMATION: Requests to make oral comments, or provide written comments to the Committees, should be sent to Oscar Carrillo, Designated Federal Officer, at the contact information above.

Meeting Access: For information on access or services for individuals with disabilities, please contact Oscar Carrillo at 202-564-0347 or carrillo.oscar@epa.gov. To request accommodation of a disability, please contact Oscar Carrillo, preferably at least 10 days prior to the meeting, to give EPA as much time as possible to process your request.

Dated: October 3, 2012.
Oscar Carrillo,
Designated Federal Officer.

[FR Doc. 2012-25143 Filed 10-11-12; 8:45 am]

BILLING CODE 6560-50-P